DEPARTMENT OF AGRICULTURE

Submission for OMB Review; Comment Request

November 25, 2019.

The Department of Agriculture will submit the following information collection requirement(s) to OMB for review and clearance under the Paperwork Reduction Act of 1995, Public Law 104-13 on or after the date of publication of this notice. Comments are requested regarding: (1) Whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology should be addressed to: Desk Officer for Agriculture, Office of Information and Regulatory Affairs, Office of Management and Budget (OMB), New Executive Office Building, Washington, DC; New Executive Office Building, 725 17th Street NW, Washington, DC, 20503. Commenters are encouraged to submit their comments to OMB via email to: OIRA_Submission@omb.eop.gov or fax (202) 395-5806 and to Departmental Clearance Office, USDA, OCIO, Mail Stop 7602, Washington, DC 20250-7602.

Comments regarding these information collections are best assured of having their full effect if received by December 30, 2019. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

National Agricultural Statistics Service (NASS)

Title: Minnesota Pesticide & Fertilizer Survey—Substantive Change

OMB Control Number: 0535-0218

Summary of Collection: General authority for these data collection activities is granted under U.S. Code Title 7, Section 2204 which specifies that “The Secretary of Agriculture shall procure and preserve all information concerning agriculture which he can obtain . . . by the collection of statistics . . .”. The primary objective of the National Agricultural Statistics Service (NASS) is to provide data users with timely and reliable agricultural production and economic statistics, as well as environmental and specialty agricultural related statistics. To accomplish this objective, NASS relies on the use of diverse surveys that show changes within the farming industry over time.

The Minnesota Pesticide and Fertilizer Survey is a data collection entirely funded by the Minnesota Department of Agriculture (MDA). The annual project is requested by the Minnesota Department of Agriculture to fulfill its mission under MN Statute 103H.151 where the MDA is required to monitor the effectiveness of Best Management Practices (BMPs) developed by the Department. It states, “The commissioner of agriculture, in consultation with local water planning authorities, shall develop best management practices for agricultural chemicals and practices” and “shall, through field audits and other appropriate means, monitor the use and effectiveness of best management practices developed and promoted under this section.” This survey series is the monitoring method.

Target commodities rotate each year depending on the cooperator's data needs and to avoid targeting the same commodities on the Federally-funded Agricultural Resource Management Survey Phase II. The target commodities for crop year 2019 will be corn and soybeans.

Additional questions will be added for insecticide, fertilizer, and manure management practices for the crop year 2019 corn and soybean crops. Management data will be collected for the largest corn and largest soybean fields, without manure use. New soil sampling questions are asked for all respondents.

The objective is to understand the decision making process when farmers decide to spray insecticides, apply fertilizer and manure to corn and soybean crops.

This substantive change resulted in an average of about five additional minutes to each questionnaire with no change in sample size. With the same sample size of approximately 8,400 respondents for the survey, the net increase in respondent burden is 560 hours above the currently approved total.

Need and Use of the Information: The additional information is requested by the Minnesota Department of Agriculture to fulfill its mission under MN Statute 103H.151 where the MDA is required to monitor the effectiveness of Best Management Practices (BMPs) developed by the Department. It states, “The commissioner of agriculture, in consultation with local water planning authorities, shall develop best management practices for agricultural chemicals and practices” and “shall, through field audits and other appropriate means, monitor the use and effectiveness of best management practices developed and promoted under this section.”

Description of Respondents: Farms.

Number of Respondents: 8,400.

Frequency of Responses: Reporting: Once.

Total Burden Hours: 3,416.

Ruth Brown,
Departmental Information Collection Clearance Officer.

[FR Doc. 2019-25863 Filed 11-27-19; 8:45 am]

BILLING CODE 3410-20-P